NATIONAL AERONAUTICS AND SPACE ADMINISTRATION

[Notice: 14-063]

Government-Owned Inventions, Available for Licensing

AGENCY: National Aeronautics and Space Administration

ACTION: Notice of availability of inventions for licensing.

SUMMARY: Patent applications on the inventions listed below assigned to the National Aeronautics and Space Administration, have been filed in the United States Patent and Trademark Office, and are available for licensing.

DATES: July 3, 2014.

FOR FURTHER INFORMATION CONTACT: Mark W. Homer, Patent Counsel, NASA Management Office—JPL, 4800 Oak Grove Drive, Mail Stop 180-200, Pasadena, CA 91109; telephone (818) 354-7770.

NPO-47881-1: Pulsed Plasma Lubrication Device and Method;

DRC-012-013: System and Method for Dynamic Aeroelastic Control;

NPO-49086-1: Electride Mediated Surface Enhanced Raman Spectroscopy (SERS);

DRC-011-015B: In-situ Three-Dimensional Shape Rendering from Strain Values Obtained Through Optical Fiber Sensors.

Sumara M. Thompson-King,
Deputy General Counsel.

[FR Doc. 2014-15676 Filed 7-2-14; 8:45 am]

BILLING CODE 7510-13-P